DEPARTMENT OF DEFENSE

Defense Acquisition Regulations System

48 CFR Part 252

RIN Number 0750-AG38

Defense Federal Acquisition Regulation Supplement; Government Support Contractor Access to Technical Data (DFARS 2009-D031); Correction

AGENCY: Defense Acquisition Regulations System, Department of Defense (DoD).

ACTION: Final rule; correction.

SUMMARY: This document corrects the amendatory language to a final rule published in the Federal Register on May 22, 2013, 78 FR 30233, regarding the Defense Federal Acquisition Regulation Supplement; Government Support Contractor Access to Technical Data (DFARS 2009-D031). This correction makes two corrections to the amendatory language.

DATES: Effective Date: June 6, 2013.

FOR FURTHER INFORMATION CONTACT: Mr. Mark Gomersall, 571-372-6099.

SUPPLEMENTARY INFORMATION:

Correction

In the Federal Register of May 22, 2013 (78 FR 30233) in the amendatory language, correct the following:

252.212-7001 [Corrected]

1. On page 30238, in the center column, amendatory instruction 6a is corrected to read as follows:

“6. Section 252.212-7001 is amended—

a. By removing the clause date “(MAR 2013)” and adding “(MAY 2013)” in its place.”

252.227-7014 [Corrected]

2. On page 30238, in the right hand column, amendatory instruction 8b is corrected to read as follows:

“8. Section 252.227-7014 is amended—

b. By revising paragraph (a)(15); and (b)(3)(iii) to read as follows:”

Kortnee Stewart,
Editor, Defense Acquisition Regulations System.

[FR Doc. 2013-13403 Filed 6-5-13; 8:45 am]

BILLING CODE 5001-06-P